DEPARTMENT OF THE INTERIOR

Fish and Wildlife Service

[FWS-R4-2008-N0285; 40136-1265-0000-S3]

Desecheo National Wildlife Refuge, Puerto Rico

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act documents for Desecheo National Wildlife Refuge (NWR). We provide this notice in compliance with our CCP policy to advise other agencies and the public of our intentions, and to obtain suggestions and information on the scope of issues to consider in the planning process.

DATES: To ensure consideration, we must receive your written comments by February 2, 2009 Special mailings, newspaper articles, and other media announcements will inform people of the opportunities for written input throughout the planning process.

ADDRESSES: Comments, questions, and requests for information should be sent to: Joseph Schwagerl, Caribbean Islands National Wildlife Refuge, P.O. Box 510, Boquerón, Puerto Rico, 00622.

FOR FURTHER INFORMATION CONTACT: Joseph Schwagerl; Telephone: 787/851-7258; Fax: 787/255-6725; E-mail: joseph_schwagerl@fws.gov.

SUPPLEMENTARY INFORMATION:

Introduction

With this notice, we initiate our process for developing a CCP for Desecheo NWR off the coast of the main island of Puerto Rico.

This notice complies with our CCP policy to (1) advise other Federal and State agencies and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose in developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for State and local governments; agencies; organizations; and the public. At this time we encourage input in the form of issues, concerns, ideas, and suggestions for the future management of Desecheo NWR. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

The Desecheo NWR was established in 1976, when administrative jurisdiction was transferred from the National Institute of Health to the Service. The total area of this island refuge is 360 acres. It is located approximately 14 miles off the coast of the main island of Puerto Rico and is administered by the Caribbean Islands National Wildlife Refuge Complex, headquartered in Boquerón, Puerto Rico. Before its establishment as a refuge, Desecheo Island had been under the control of the Spanish Crown, the Commonwealth of Puerto Rico, the U.S. military (for bombing and survival training), and the National Institute of Health (which introduced rhesus monkeys for medical research). At one time it contained the largest Brown booby nesting colony in the world. Today, there is little or no seabird nesting on the island. The native forest of Desecheo NWR has been severely degraded by introduced rats, goats, and monkeys. As a result of prior military training activities, there is still unexploded ordnance on the refuge; therefore, it is closed to all public use. The refuge objectives are to restore and protect historic seabird colonies and natural island ecosystems.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: November 7, 2008.
Cynthia K. Dohner,
Acting Regional Director.

[FR Doc. E8-30183 Filed 12-18-08; 8:45 am]

BILLING CODE 4310-55-P